ENVIRONMENTAL PROTECTION AGENCY

40 CFR Part 52

[EPA-RO3-OAR-2008-0068; FRL-8691-4]

Approval and Promulgation of Air Quality Implementation Plans; Delaware; Control of Stationary Combustion Turbine Electric Generating Unit Emissions

AGENCY: Environmental Protection Agency (EPA).

ACTION: Proposed rule.

SUMMARY: EPA is proposing to approve a State Implementation Plan (SIP) revision submitted by the State of Delaware. This revision pertains to controlling nitrogen oxides emissions from stationary combustion turbine electric generating units. This action is being taken under the Clean Air Act (CAA).

DATES: Written comments must be received on or before August 13, 2008.

ADDRESSES: Submit your comments, identified by Docket ID Number EPA-RO3-OAR-2008-0068 by one of the following methods:

A. www.regulations.gov. Follow the on-line instructions for submitting comments.

B. E-mail: fernandez.cristina@epa.gov.

C. Mail: EPA-RO3-OAR-2008-0068, Cristina Fernandez, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-RO3-OAR-2008-0068. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Delaware Department of Natural Resources & Environmental Control, 89 Kings Highway, P.O. Box 1401, Dover, Delaware 19903.

FOR FURTHER INFORMATION CONTACT: Gerallyn Duke, (215) 814-2084, or by e-mail at Duke.Gerallyn@epa.gov.

SUPPLEMENTARY INFORMATION: On September 11, 2007, the Delaware Department of Natural Resources and Environmental Control (DNREC) submitted to EPA a revision to its SIP for Regulation 1148—Control of Nitrogen Oxides (NOX) Emissions from Stationary Combustion Turbine Electric Generating Units.

I. Background

DNREC has identified large stationary combustion turbines (CTs) as significant contributors to the release of NOX, which is a precursor to the formation of ground-level ozone. Ozone poses a significant threat to human health especially to the young, the elderly, or anyone with impaired ability to breathe, as ozone harms the lungs.

CTs normally operate at peak times for the demand for electricity. In Delaware, peak times are in the summer and coincide with hot and humid weather conditions that are conducive to the formation of ozone. By reducing NOX emissions from CTs during the ozone season, the likelihood that Delaware's air quality will exceed the federal standards for ozone is reduced. This regulation will affect six existing CTs in Delaware, each with an installed capacity of 1 megawatt (MW), none of which currently operate with any NOX pollution control equipment. These six CTs emitted 2.21 tons of NOX per day in 2002, which is the most recent year for Delaware's emissions inventory. DNREC has determined that use of water injection technology would reduce NOX emissions by approximately 40 percent, or by 0.88 tons per day. Water injection reduces the combustion temperature and consequently reduces NOX emissions. Delaware is part of the Philadelphia-Wilmington-Atlantic City ozone nonattainment area and it must take regulatory actions to improve air quality to meet the 8-Hour Ozone National Ambient Air Quality Standard (NAAQS) by 2010. This regulation is one of many regulatory actions that DNREC has undertaken in recent years as part of its SIP which is a federal requirement to show that Delaware's air quality will attain compliance with the 8-Hour Ozone NAAQS by 2010. No inconsistencies or inadequacies regarding EPA policy and the Clean Air Act have been identified.

II. Summary of SIP Revision

Rregulation 1148—Control of NOX Emissions from Stationary Combustion Turbine Electric Generating Units requires that an owner or operator of an existing stationary combustion turbine electric generating unit located in Delaware with a base-load nameplate capacity of 1 MW or greater must, by May 1, 2009, either demonstrate that the existing stationary combustion turbine generating unit meets the emission limits listed below or must install NOX emission controls designed to meet these limits: For CTs that burn gaseous fuel—42 parts per million volume (ppmv), corrected to 15 percent O2 dry basis NOX, and for CTs that burn liquid fuel—88 ppmv NOX. Design of these limits was based on anticipated NOX emissions if water injection pollution control equipment were installed.

The six CTs affected by this regulation operate without any NOX pollution control equipment, although they are subject to regulations designed to control NOX emissions. DNREC determined that the six sources could achieve significant reductions in their NOX emissions through the use of water injection equipment. Water injection is a proven, feasible technology that has been used in other states to reduce NOX emissions.

This revision will reduce NOX emissions from CTs by 40 percent, or by 0.88 tons per day to approximately 1.33 tons per day. Such a reduction will significantly improve air quality, particularly on days when CTs normally operate, i.e., hot humid days and when weather conditions are conducive to forming ground-level ozone, and is one of the many regulatory steps taken to allow DNREC to attain the NAAQS by 2010.

III. Proposed Action

EPA is proposing to approve the Delaware SIP revision for Control of Stationary Combustion Turbine Electric Generating Unit Emissions, which was submitted on September 11, 2007. This SIP revision will have a beneficial effect on air quality in the Delaware portion of the Philadelphia—Wilmington—Atlantic City ozone nonattainment area. EPA is soliciting public comments on the issues discussed in this document. These comments will be considered before taking final action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed approval of Delaware's Stationary Combustion Turbine Engine emissions rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Nitrogen dioxide, Ozone, Reporting and recordkeeping requirements.

Authority: 42 U.S.C. 7401 et seq.

Dated: July 1, 2008.
Donald S. Welsh,
Regional Administrator, Region III.

[FR Doc. E8-16018 Filed 7-11-08; 8:45 am]

BILLING CODE 6560-50-P